DEPARTMENT OF DEFENSE

Department of the Navy

[Docket ID: USN-2009-0014]

Privacy Act of 1974; System of Records

AGENCY: U.S. Marine Corps, DoD.

ACTION: Notice to Add a System of Records.

SUMMARY: The U.S. Marine Corps is proposing to add a new system of records notice to its existing inventory of records systems subject to the Privacy Act of 1974, (5 U.S.C. 552a), as amended.

DATES: This proposed action will be effective without further notice on May 18, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a(r), of the Privacy Act of 1974, as amended, was submitted on April 13, 2009, to the House Committee on Oversight and Government Reform, the Senate Committee on Homeland Security and Governmental Affairs, and the Office of Management and Budget (OMB) pursuant to paragraph 4c of Appendix I to OMB Circular No. A-130, ``Federal Agency Responsibilities for Maintaining Records About Individuals,'' dated February 8, 1996 (February 20, 1996, 61 FR 6427).

Dated: April 14, 2009.
Morgan E. Frazier,
Alternate OSD Federal Register Liaison Officer, Department of Defense.

M01754-6

SYSTEM NAME:

Exceptional Family Member Program Records.

SYSTEM LOCATION:

Commandant of the Marine Corps (Personal and Family Readiness Division), Headquarters, U.S. Marine Corps, 3280 Russell Road, MCB Quantico, VA 22134-5009, and all Marine Corps installations, official mailing addresses are contained in the directory of Department of the Navy Mailing Addresses.

CATEGORIES OF INDIVIDUALS COVERED BY THE SYSTEM:

Active duty personnel, Reservists when serving on active duty, Department of Defense civilian employees and their family members, currently or previously enrolled in or serviced by the Marine Corps Exceptional Family Member Program.

CATEGORIES OF RECORDS IN THE SYSTEM:

Data elements of DD Form 2792, Exceptional Family Member Medical Summary: Authorization of disclosure; identification and demographical information of exceptional family member; family and sponsor name, social security number, branch of service; rank or grade, military designation, current and duty address, official e-mail address; telephone/fax contact number; active duty spouse name, branch of service, rank/rank, and social security number; DEERS enrollment status; certification of accuracy; enrollment status; required addenda selection; screening coordinator contact information; application validating information; medical summary including diagnosis(es), severity, medical/mental health codes, medications, therapies, prognosis, treatment plan, medical history, artificial openings, minimum health care specialty, environmental and architectural considerations, adaptive equipment/special medical equipment, additional comments, if any, by medical provider, provider information, asthma/reactive airway disease medical information and history; mental health information including diagnosis, history of medications and therapies, prognosis, treatment plan, mental health history, other information necessary that may assist in determining necessary treatment, identification of type of providers required to implement treatment plan, and provider information.

All data elements of DD Form 2792-1, Exceptional Family Member Special Education/Early Intervention Summary: Application status, family status, sponsor's name, social security number, rank or grade, branch of service, military designation, home and duty address, official e-mail address, home and military telephone number; active duty spouse's name, rank/rate, social security number; exceptional family member name, relationship to sponsor, date of birth, residence address, DEERS enrollment status; sponsor release of information authorization; dependent child name, current grade level, date of birth, age, and sex; early intervention program and school information; eligibility criteria for early intervention or special education; identifying information of disability and severity; provider and school official information.

Supporting documentation of a family member's special medical and/or educational needs; records of children receiving early intervention or related services; enrollment and disenrollment memoranda; medical summaries, individual family support plans (IFSP); individual educational plans (IEP), documentation of authorizations to disclose information; divorce decrees; death certificates; case notes; and other related general program-related documentation and correspondence.

AUTHORITY FOR MAINTENANCE OF THE SYSTEM:

10 U.S.C. 5013; Secretary of the Navy; 10 U.S.C. 5041, Headquarters, U.S. Marine Corps; MCO 1754.4, Exceptional Family Member Program and E.O. 9397 (SSN).

PURPOSE(S):

To document and manage the continuum of care for the special medical and/or educational needs of family members of Marines enrolled in the Exceptional Family Member Program (EFMP), and to perform program activities including: eligibility determination; identification of category-level; identification of resources to support the special needs family member; verification of EFMP enrollment necessary for certain TRICARE benefits; screen personnel assignments; coordinate program resources for the family, including respite care; conduct assessment and survey activities. Also used as a management tool for statistical analysis, tracking, reporting, evaluating program effectiveness and conducting research.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The `Blanket Routine Uses' that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

POLICIES AND PRACTICES FOR STORING, RETRIEVING, ACCESSING, RETAINING, AND DISPOSING OF RECORDS IN THE SYSTEM:

STORAGE:

Paper records and electronic storage media.

RETRIEVABILITY:

By name or Social Security Number (SSN).

SAFEGUARDS:

All EFMP computer terminals are restricted to authorized users only. The case management system is a password controlled system, files and element access is based on predefined need-to-know basis. Computer facilities and terminals are located in restricted areas accessible only to authorized persons. Manual records and computer printouts are available only to authorized personnel having a need-to-know and maintained in locked file systems and during non-working hours the facilities are locked. All Data is encrypted while at rest and during transmission. Physical access to terminals, terminal rooms, buildings and activities' grounds are controlled by locked terminals and rooms, guards, personnel screening, or visitor registers.

RETENTION AND DISPOSAL:

The records retention has not been approved by the National Archives and Records Administration, until then treat as permanent.

SYSTEM MANAGER(S) AND ADDRESS:

Policy Manager: Commandant of the Marine Corps, Headquarters, U.S. Marine Corps, Marine Corps Community Services, 3280 Russell Road, MCB Quantico, VA 22134-5009.

Secondary Managers: Directors of Marine Corps Community Services (MCCS) offices located at each Marine Corps installation. Official mailing addresses for Marine Corps installations are contained in the directory of Department of the Navy Mailing Addresses.

NOTIFICATION PROCEDURE:

Individuals seeking to determine whether information about themselves or their exceptional family member is contained in this system should address written inquiries to the Commandant of the Marine Corps, Headquarters, U.S. Marine Corps, 3280 Russell Road, Marine Corps Base (MCB) Quantico, VA 22134-5009 or to the MCCS office servicing the installation where the Marine is currently stationed. Official mailing addresses for Marine Corps installations are contained in the directory of Department of the Navy Mailing Addresses.

The written inquiry should include the individual's printed full name, the last four digits of their Social Security Number (SSN), and signature.

RECORD ACCESS PROCEDURE:

Individuals seeking to access information about themselves or their exceptional family member is contained in this system should address written inquiries to the Commandant of the Marine Corps, Headquarters, U.S. Marine Corps, 3280 Russell Road, MCB Quantico, VA 22134-5009, or to the MCCS office servicing the installation where the Marine is currently stationed. Official mailing addresses for Marine Corps installations are contained in the directory of Department of the Navy Mailing Addresses.

The written inquiry should include the individual's printed full name, the last four digits of their Social Security Number (SSN), and signature.

CONTESTING RECORD PROCEDURES:

The Department of the Navy's rules for accessing records, and for contesting contents and appealing initial agency determinations are published in Secretary of the Navy Instruction 5211.5; 32 CFR part 701; or may be obtained from the system manager.

RECORD SOURCE CATEGORIES:

The Marine, spouse, and/or the exceptional family member and general correspondence concerning the same; EFMP personnel; the Marine Corps Total Force System database and/or the Defense Enrollment Eligibility Reporting System (DEERS).

EXEMPTIONS CLAIMED FOR THE SYSTEM:

None.

[FR Doc. E9-8843 Filed 4-16-09; 8:45 am]

BILLING CODE 5001-06-P